DEPARTMENT OF COMMERCE

National Oceanic and Atmospheric Administration

RIN 0648-XJ13

Marine Mammals; File No. 13392

AGENCY: National Marine Fisheries Service (NMFS), National Oceanic and Atmospheric Administration (NOAA), Commerce.

ACTION: Notice; issuance of permit.

SUMMARY: Notice is hereby given that Thomas A. Jefferson, NMFS Southwest Fisheries Science Center, 8604 La Jolla Shores Drive, La Jolla, CA 92037 has been issued a permit to conduct research on bottlenose dolphins (Tursiops truncatus).

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Kate Swails or Carrie Hubard, (301)713-2289.

SUPPLEMENTARY INFORMATION: On May 16, 2008, notice was published in the Federal Register (73 FR 28436) that a request for a scientific research permit to take the species indicated above had been submitted by the above-named individual. The requested permit has been issued under the authority of the Marine Mammal Protection Act of 1972, as amended (16 U.S.C. 1361 et seq.), and the regulations governing the taking and importing of marine mammals (50 CFR part 216).

The research will provide information to better understand the levels and impacts of persistent organic pollutants on the California coastal stock of bottlenose dolphins. Up to 60 individuals will be photo-identified and biopsied over the course of the five year permit. Killer whales (Orcinus orca), harbor porpoises (Phocoena phocoena), and bottlenose dolphins could be incidentally harassed during the proposed research. The sampling will occur mainly in Monterey Bay but may also occur in other locations along California.

In compliance with the National Environmental Policy Act of 1969 (42 U.S.C. 4321 et seq.), a final determination has been made that the activity proposed is categorically excluded from the requirement to prepare an environmental assessment or environmental impact statement.

Dated: July 17, 2008.
P. Michael Payne,
Chief, Permits, Conservation and Education Division, Office of Protected Resources, National Marine Fisheries Service.

[FR Doc. E8-16787 Filed 7-21-08; 8:45 am]

BILLING CODE 3510-22-S